OFFICE OF PERSONNEL MANAGEMENT

CFC-50 Commission

AGENCY: Office of Personnel Management.

ACTION: Establishment of advisory committee.

SUMMARY: The CFC-50 Advisory Commission will hold its third and final meeting on March 2, 2012, at the time and location shown below. The Commission shall advise the Director of the U.S. Office of Personnel Management (OPM) on strengthening the integrity, the operation and effectiveness of the Combined Federal Campaign (CFC) to ensure its continued growth and success. The Commission is an advisory committee composed of Federal employees, private campaign administrators, charitable organizations and “watchdog” groups. The Commission is co-chaired by Thomas Davis and Beverly Byron.

The meeting is open to the public. Please contact the Office of Personnel Management at the address shown below if you wish to present material to the Commission at the meeting. The manner and time prescribed for presentations may be limited, depending upon the number of parties that express interest in presenting information.

DATES: March 2, 2012 at 1:00 p.m. CST.

Location: Crowne Plaza Riverwalk, 111 E. Pecan Street, San Antonio, TX, 78205.

FOR FURTHER INFORMATION CONTACT: Keith Willingham, Director, Combined Federal Campaign, U.S. Office of Personnel Management, 1900 E St. NW., Suite 6484, Washington, DC 20415. Phone (202) 606-2564 FAX (202) 606-5056 or email at cfc@opm.gov.

U.S. Office of Personnel Management.
John Berry,
Director.

[FR Doc. 2012-3896 Filed 2-17-12; 8:45 am]

BILLING CODE 6325-46-P